DEPARTMENT OF COMMERCE

National Oceanic and Atmospheric Administration

50 CFR Part 665

[Docket No. 230607-0144; RTID 0648-XC461]

Pacific Island Pelagic Fisheries; 2023 U.S. Territorial Longline Bigeye Tuna Catch Limits

AGENCY: National Marine Fisheries Service (NMFS), National Oceanic and Atmospheric Administration (NOAA), Commerce.

ACTION: Final specifications.

SUMMARY: NMFS specifies a 2023 limit of 2,000 metric tons (t) of longline-caught bigeye tuna for each U.S. Pacific territory (American Samoa, Guam, and the Commonwealth of the Northern Mariana Islands (CNMI), the territories). NMFS will allow each territory to allocate up to 1,500 t in 2023 to U.S. longline fishing vessels through specified fishing agreements that meet established criteria. The overall allocation limit among all territories, however, may not exceed 3,000 t. As an accountability measure, NMFS will monitor, attribute, and restrict (if necessary) catches of longline-caught bigeye tuna, including catches made under a specified fishing agreement. These catch limits and accountability measures support the long-term sustainability of fishery resources of the U.S. Pacific Islands.

DATES: The final specifications are effective June 15, 2023, through December 31, 2023. The deadline to submit a specified fishing agreement pursuant to 50 CFR 665.819(b)(3) for review is December 12, 2023.

ADDRESSES: Copies of the Fishery Ecosystem Plan for Pelagic Fisheries of the Western Pacific (FEP) are available from the Western Pacific Fishery Management Council (Council), 1164 Bishop St., Suite 1400, Honolulu, HI 96813, tel 808-522-8220, or www.wpcouncil.org.

Pursuant to the National Environmental Policy Act, the Council and NMFS prepared environmental analyses that support this action and are available at https://www.regulations.gov/docket/NOAA-NMFS-2022-0117.

FOR FURTHER INFORMATION CONTACT: Keith Kamikawa, NMFS PIRO Sustainable Fisheries, 808-725-5177.

SUPPLEMENTARY INFORMATION: NMFS is specifying a 2023 catch limit of 2,000 t of longline-caught bigeye tuna for each U.S. Pacific territory. NMFS is also authorizing each territory to allocate up to 1,500 t of its 2,000 t bigeye tuna limit, not to exceed a 3,000 t total annual allocation limit among all the territories, to U.S. longline fishing vessels permitted to fish under the FEP. A specified fishing agreement with the applicable territory must identify those vessels.

NMFS will monitor catches of longline-caught bigeye tuna by the longline fisheries of each U.S. Pacific territory, including catches made by U.S. longline vessels operating under specified fishing agreements. The criteria that a specified fishing agreement must meet, and the process for attributing longline-caught bigeye tuna, will follow the procedures in 50 CFR 665.819. When NMFS projects that the fishery will reach a territorial catch or allocation limit, NMFS will, as an accountability measure, prohibit the catch and retention of longline-caught bigeye tuna by vessels in the applicable territory (if the territorial catch limit is projected to be reached), and/or vessels in a specified fishing agreement (if the allocation limit is projected to be reached).

You may find additional background information on this action in the preamble to the proposed specifications published on March 29, 2023 (88 FR 18509). Regardless of the final specifications, all other existing management measures will continue to apply in the longline fishery.

Comments and Responses

On March 29, 2023, NMFS published the proposed specifications and request for public comments (88 FR 18509); the comment period closed on April 28, 2023. NMFS received one anonymous comment supporting the specifications, suggesting an incentive program to reduce bigeye catch, and expressing concerns with overfishing of bigeye (and salmon and yellowtail), ecosystem impacts, and bycatch of juvenile tuna.

Response: There are two stocks of Pacific bigeye tuna: the Western and Central Pacific stock and the Eastern Pacific stock. According to the most recent stock assessments, neither stock is overfished or subject to overfishing. The fishery does not target or catch salmon or yellowtail and would therefore not influence stock status for these species. In developing the territorial bigeye tuna catch and allocation limits, NMFS and the Council considered a range of catch and allocation limits, taking into consideration sustainability of the stock, decisions of regional fishery management organizations, protected species bycatch, and the needs of Pacific Island fishing communities.

An incentive program to reduce bigeye tuna catch was not one of the alternatives considered. Consistent with the FEP and the Magnuson-Stevens Fishery Conservation and Management Act (Magnuson-Stevens Act), the catch and allocation limits in this action authorize an optimum level of fishing intended to both prevent overfishing and allow sustainable fishing that supplies local demand and supports the local economy, while supporting fisheries development in the U.S. territories. A program in which fishery participants are incentivized to fish below this optimum level would not meet these goals. Thus, an incentive program was not considered for this action.

NMFS monitors bycatch each fishing season. Bycatch of juvenile bigeye tuna is not a major concern, as longline fishing gear targets larger fish and juvenile bigeye are often not captured. When juvenile fish are caught they are usually returned alive. The 2023 allocation limits allow for the sustainability of the bigeye tuna stock and are consistent with the FEP, the Magnuson-Stevens Act, and other applicable laws.

Changes From the Proposed Specifications

No changes were made to the proposed specifications.

Classification

Pursuant to section 304(b)(3) of the Magnuson-Stevens Act, the NMFS Assistant Administrator (AA) has determined that this final rule is consistent with the FEP, other provisions of the Magnuson-Stevens Act, and other applicable laws.

The AA has also determined that because measures in this rule relieve a restriction, it is exempt from the otherwise-applicable requirement of a 30-day delay in the date of effectiveness, pursuant to 5 U.S.C. 553(d)(1). Consistent with Conservation and Management Measure 2021-01 adopted by the WCPFC at its December 2021 meeting, the bigeye tuna catch limit for U.S. longline fisheries in the western and central Pacific in 2023 is 3,554 t. This limit is implemented by separate rulemaking and codified at 50 CFR 300.224(a)). When NMFS projects the limit will be reached, NMFS must close the fishery for bigeye tuna in the WCPO. This rule allows U.S. vessels identified in a valid specified fishing agreement to continue fishing in the WCPO subject to the territorial limits even after NMFS closes the U.S. longline fishery for bigeye tuna.

The Chief Counsel for Regulation of the Department of Commerce certified to the Chief Counsel for Advocacy of the Small Business Administration that the proposed specifications would not have a significant economic impact on a substantial number of small entities. NMFS published the factual basis for the certification in the proposed specifications, and we do not repeat it here. NMFS received no comments relevant to this certification; as a result, a final regulatory flexibility analysis is not required, and none has been prepared.

This action is exempt from review under Executive Order 12866.

This final rule contains no information collection requirements under the Paperwork Reduction Act of 1995.

Authority: 16 U.S.C. 1801, et seq.

Dated: June 9, 2023.
Samuel D. Rauch, III,
Deputy Assistant Administrator for Regulatory Programs, National Marine Fisheries Service.

[FR Doc. 2023-12711 Filed 6-14-23; 8:45 am]

BILLING CODE 3510-22-P